DEPARTMENT OF THE INTERIOR

Bureau of Land Management

[NV-056-5853-EU; N-79534 et al.; 8-08807; TAS: 14X5232]

Notice of Realty Action: Competitive Sealed Bid Sale of Public Lands in Clark County, NV

AGENCY: Bureau of Land Management, Interior.

ACTION: Notice.

SUMMARY: The Bureau of Land Management (BLM) proposes to offer 15 parcels of public land of approximately 143.24 acres in the Las Vegas Valley by competitive sealed bid sale procedures at not less than the fair market value (FMV). The sale will be conducted pursuant to the Southern Nevada Public Land Management Act of 1998 (SNPLMA), Public Law 105-263, 112 Stat. 2343, as amended. The SNPLMA sale will be subject to the applicable provisions of Sections 203 and 209 of the Federal Land Policy and Management Act of 1976 (FLPMA), 43 U.S.C. 1713 and 1719, respectively, and BLM land sale and mineral conveyance regulations at 43 CFR 2710 and 2720.

DATES: Interested parties may submit written comments regarding the proposed sale of public lands and the environmental assessment (EA) until April 21, 2008. BLM will accept sealed bids for the offered parcels from qualified bidders until June 12, 2008, at 4:30 p.m., Pacific Time, at the address of the Las Vegas Field Office listed below. Sealed bids will be opened at a scheduled bid opening at the Las Vegas Field Office on June 17, 2008, at 10 a.m., Pacific Time.

ADDRESSES: Mail written comments to the BLM Field Manager, Las Vegas Field Office, 4701 N. Torrey Pines Drive, Las Vegas, NV 89130.

FOR FURTHER INFORMATION CONTACT: Brenda Wilhight, by e-mail at Brenda_Wilhight@nv.blm.gov or at (702) 515-5172. For general information on BLM public land sale procedures, refer to the following Web address: http://www.blm.gov/nv/st/en/fo/lvfo/snplma/Land_Auctions.html.

SUPPLEMENTARY INFORMATION: This public sale is in conformance with the Las Vegas Resource Management Plan (RMP), approved on October 5, 1998. BLM has determined that the proposed action conforms to the RMP decision LD-1 under the authority of FLPMA.

The public lands will be offered for competitive sale by sealed bid process at not less than the appraised FMV for each parcel and offered under the terms and conditions of this notice.

Mount Diablo Meridian, Nevada

T. 22 S. R. 60 E.

Sec. 19, Lot 69, N½SW¼SE¼NE¼, S½SW¼NE¼NW¼.

Sec. 22, S½NW¼SE¼SW¼NE¼, S½NE¼SW¼SW¼NE¼.

T. 22 S., R. 61 E.

Sec. 30, SW¼NE¼SW¼NE¼, SE¼NW¼SW¼NE¼, W½NW¼SE¼SW¼NE¼, NE¼SW¼SW¼NE¼, E½NW¼SW¼SW¼NE¼, E½SW¼SW¼SW¼NE¼, E½SE¼SW¼SW¼NE¼, E½NE¼NE¼NE¼NE¼.

Containing approximately 27.50 acres, more or less.

The total acreage for this sale is 143.24 acres. Of that acreage 115.74 acres were offered in previous sales. Their legal descriptions are not included in this notice of realty action.

Parcels N-79534, N-79544, N-79545, N-79546, N-79548, N-79550, N-79551, N-81979, and N-84196, consisting of a total of 103.24 acres, more or less, are being offered as an assemblage. Prospective bidders who wish to bid on these parcels as one, may do so by sealed bid. The bidding process for the entire 103.24 acres begins at the consolidated FMV of the nine (9) parcels. If there are no sealed bids received by the close of business on June 12, 2008, these parcels will be offered as individual parcels at the bid opening on June 17, 2008 by supplemental sealed bid process.

Maps delineating the individual proposed sale parcels and the current appraised values for each parcel are available for public review at the Las Vegas Field Office, and at https://www.propertydisposal.gsa.gov.

The land is being offered for sale using the competitive sealed bid procedures conducted pursuant to 43 CFR 2711.3-1. Interested bidders must submit sealed bids to the Las Vegas Field Office, 4701 N. Torrey Pines Drive, Las Vegas, NV 89130, not later than June 12, 2008, 4:30 p.m., Pacific Time.

Sealed bids must contain 20 percent of the total amount of the bid. Each bid must be accompanied by a certified check, postal money order, bank draft, or cashier's check made payable to the Bureau of Land Management for an amount not less than 20 percent of the total amount of the bid. Personal checks will not be accepted. Sealed bid envelopes must be clearly marked on the front lower left corner with “SEALED BID BLM LAND SALE, JUNE 17, 2008”, and “BLM SERIAL NUMBER N-__” for each sale parcel. Bids must be for not less than the FMV and a separate bid must be submitted for each parcel. The bid envelope must contain the completed BLM Form, Certificate of Eligibility, stating the name, mailing address, and phone number of the entity/person making the bid.

Sealed bids will be opened and recorded to determine the high bidders on June 17, 2008, 10 a.m., Pacific Time at the Las Vegas Field Office. The highest qualifying bidder for each parcel will be declared the high bidder and the high bidder will receive written notice. Bidders submitting matching high bid amounts for the parcels will be provided an opportunity to submit a supplemental sealed bid. Following the sealed bid opening, all funds submitted with sealed bids will be returned to the unsuccessful bidders upon presentation of photo identification at the designated area.

The FMV will be made available 60 days prior to the sealed bid closing date at the Las Vegas Field Office.

The successful high bidder will be allowed 180 days from the date of the sale, December 15, 2008, to submit the remainder of the full bid price in the form of a certified check, money order, bank draft, or cashier's check made payable to the Bureau of Land Management. Personal checks will not be accepted. Failure to submit the full bid price prior to the expiration of the 180th day following the sale date will result in the forfeiture of the bid deposit to the BLM, and the parcel will be offered to the second highest qualifying bidder at their original bid. If there are no acceptable bids, the parcel may remain available for sale on a continuing basis in accordance with the competitive sale procedures described in 43 CFR 2711.3-1 without further legal notice.

Terms and Conditions: Certain minerals will be reserved in accordance with the BLM approved Mineral Potential Report, dated January 22, 1999. An offer to purchase these parcels will constitute an application for mineral conveyance of the “no known value” mineral interests. In conjunction with the final payment, an applicant for “no known value” mineral interests will be required to pay a $50 non-refundable filing fee for processing the conveyance of the “no known value” mineral interests which will be sold simultaneously with the surface interests.

The following numbered terms and conditions would appear on the conveyance documents for these parcels, as follows:

1. Discretionary leasable and saleable mineral deposits on the lands in Clark County, if any, reserved to the United States, in accordance with the above referenced Mineral Potential Report. Permittees, licensees, and lessees of the United States retain the right to prospect for, mine, and remove such leasable and saleable minerals owned by the United States under applicable law and any regulations that the Secretary of the Interior may prescribe, together with all necessary access and exit rights;

2. A right-of-way is reserved for ditches and canals constructed by authority of the United States under the Act of August 30, 1890 (43 U.S.C. 945);

3. A right-of-way for federal aid highway (Blue Diamond Road) purposes reserved to the Federal Highway Administration, its successors and assigns, by right-of-way No. Nev-012728, pursuant to the Act of August 27, 1958 (23 U.S.C. 107(D)) within sale parcels N-84290 and N-84292;

4. All parcels are subject to valid existing rights;

5. All parcels are subject to reservations for roads, public utilities and flood control purposes in accordance with the local governing entities' transportation plans;

6. By accepting this patent, the patentee agrees to indemnify, defend and hold the United States harmless from any costs, damages, claims, causes of action, penalties, fines, liabilities, and judgments of any kind or nature arising from the past, present, and future acts or omissions of the patentees, its employees, agents, contractors, or lessees, or any third-party, arising out of, or in connection with, the patentees use, occupancy, or operations on the patented real property. This indemnification and hold harmless agreement includes, but is not limited to, acts and omissions of the patentees, its employees, agents, contractors, or lessees, or third party arising out of or in connection with the use and/or occupancy of the patented real property resulting in: (1) Violations of Federal, state, and local laws and regulations applicable to the real property; (2) Judgments, claims or demands of any kind assessed against the United States; (3) Costs, expenses, damages of any kind incurred by the United States; (4) Other releases or threatened releases on, into or under land, property and other interests of the United States by solid or hazardous waste(s) and/or hazardous substances(s), as defined by Federal or state environmental laws; (5) Other activities by which solid or hazardous substances or wastes, as defined by Federal and state environmental laws were generated, released, stored, used or otherwise disposed of on the patented real property, and any cleanup response, remedial action, or other actions related in any manner to said solid or hazardous substances or wastes; (6) Or natural resource damages as defined by Federal and state law. This covenant shall be construed as running with the patented real property, and may be enforced by the United States in a court of competent jurisdiction; and

7. Pursuant to the requirements established by section 120(h) of the Comprehensive Environmental Response, Compensation and Liability Act, 42 U.S.C. 9620(h) (CERCLA), as amended by the Superfund Amendments and Reauthorization Act of 1988, 100 Stat. 1670, notice is hereby given that the above-described lands have been examined and no evidence was found to indicate that any hazardous substances have been stored for one year or more, nor had any hazardous substances been disposed of or released on the subject property.

No warranty of any kind, express or implied, is given by the United States as to title, whether or to what extent the land may be developed, its physical condition, future uses, or any other circumstance or condition. The conveyance of any parcel will not be on a contingency basis. However, to the extent required by law, all parcels are subject to the requirements of section 120(h) of the CERCLA.

Federal law requires that bidders must be (1) United States citizens 18 years of age or older; (2) a corporation subject to the laws of any State or of the United States; (3) an entity including, but not limited to associations or partnerships capable of acquiring and owning real property, or interests therein, under the laws of the State of Nevada; or (4) a State, State instrumentality, or political subdivision authorized to hold real property. U.S. citizenship is evidenced by presenting a birth certificate, passport, or naturalization papers. Failure to submit the above requested documents by July 17, 2008 shall result in the cancellation of the sale and forfeiture of the bid deposit.

Furthermore, the parcels may be subject to land use applications received prior to publication of this Notice if processing the application would have no adverse effect on the marketability of title, or the FMV of a parcel. Encumbrances of records, appearing in the BLM public files for the parcels proposed for sale, are available for review during business hours, 7:30 a.m. to 4:30 p.m., Pacific Time, Monday through Friday, at the Las Vegas Field Office, except during federally recognized holidays. Subject to limitations prescribed by law and regulation, and prior to patent issuance, a holder of any right-of-way within the parcels may be given the opportunity to amend the right-of-way for conversion to a new term, including perpetuity, if applicable, or to an easement.

BLM will notify valid existing right-of-way holders of their ability to convert their compliant rights-of-way to perpetual rights-of-way or easements. Each valid holder will be notified in writing of their rights and then must apply for the conversion of their current authorization.

Unless other satisfactory arrangements are approved in advance by a BLM authorized officer, conveyance of title shall be through the use of escrow. Designation of the escrow agent shall be through mutual agreement between the BLM and the prospective patentee, and costs of escrow shall be borne by the prospective patentee.

Requests for all escrow instructions must be received by the Las Vegas Field Office prior to 30 days before the bidder's scheduled closing date. There are no exceptions.

Within 30 days of the sale, BLM will in writing, either accept or reject all bids received. Pursuant to 43 CFR 2711.3-1, a bid is the bidder's offer to BLM to purchase the parcel. No contractual or other rights against the United States may accrue until BLM officially accepts the offer to purchase, and the full bid price is submitted by the 180th day following the sale. All name changes and supporting documentation must be received at the Las Vegas Field Office by July 17, 2008, 4:30 p.m., Pacific Time. Otherwise, the patent will be issued to the name(s) on the bidder statement that's completed and submitted on June 17, 2008. No name changes will be accepted after July 17, 2008, 4:30 p.m., Pacific Time. To change the name on the bidder statement, high bidders must notify the Las Vegas Field Office in writing, and submit a new bidder statement, which is available at the Las Vegas Field Office or in the sale brochure, and be completed by the intended patentee(s).

The remainder of the full bid price for each parcel must be paid prior to the expiration of the 180th day following the competitive sale date, which is December 15, 2008, in the form of a certified check, postal money order, bank draft, or cashier's check made payable in U.S. dollars to the order of the Department of Interior—Bureau of Land Management. Personal checks will not be accepted. Arrangements for electronic fund transfer to BLM for the payment balance due on or before December 15, 2008, shall be made a minimum of two weeks prior to the date you wish to make payment. Failure to pay the full bid price prior to the expiration of the 180th day following the sale date will disqualify the apparent high bidder and cause the entire 20 percent deposit to be forfeited to the BLM. Forfeiture of the 20 percent deposit is by operation of 43 CFR 2711.3-1(d). No exceptions will be made. BLM cannot accept the full bid price after the 180th day of the sale date.

BLM will not sign any documents related to 1031 Exchange transactions. The timing for completion of the exchange is the bidder's responsibility in accordance with Internal Revenue Services regulations. BLM is not a party to any 1031 Exchange.

All sales are made in accordance with and subject to the governing provisions of law and applicable regulations.

In accordance with 43 CFR 2711.3-1(f), the BLM may accept or reject any or all offers to purchase, or withdraw any parcel of land or interest therein from sale, if, in the opinion of a BLM authorized officer, consummation of the sale would be inconsistent with any law, or for other reasons.

If not sold, any parcels described above in this notice may be identified for sale at a later date without further legal notice. Unsold parcels may be offered for sale in a future Internet auction. Internet auction procedures will be available at http://www.auctionrp.com. If unsold on the Internet, parcels may be offered for sale at future oral and Internet auctions without additional legal notice.

Upon publication of this notice and until completion of the sale, the BLM is no longer accepting land use applications affecting the parcels identified for sale. However, land use applications may be considered after completion of the sale for parcels that are not sold.

In order to determine the FWV certain assumptions may have been made of the attributes and limitations of the lands and potential effects of local regulations and policies on potential future land uses. Through publication of this notice the BLM advises that these assumptions may not be endorsed or approved by units of local government. It is the buyer's responsibility to be aware of all applicable Federal, state, and local government laws, regulations and policies that may affect the subject lands, including any required dedication of lands for public uses. It is the buyer's responsibility to be aware of existing or projected use of nearby properties. When conveyed out of Federal ownership, the lands will be subject to any applicable laws, regulations, and policies of the applicable local government for proposed future uses. It will be the responsibility of the purchaser to be aware through due diligence of those laws, regulations, and policies, and to seek any required local approvals for future uses. Buyers should also make themselves aware of any Federal or state law or regulation that may impact the future use of the property. Any land lacking access from a public road or highway will be conveyed as such, and future access acquisition will be the responsibility of the buyer.

SNPLMA parcels proposed for sale were analyzed in the “Las Vegas Land Disposal Boundary Environmental Impact Statement,” approved December 23, 2004 (EIS), which is available for public review at the Las Vegas Field Office. Ten parcels being offered in this sale were previously analyzed through EAs and approved for sale. Copies of the applicable EAs for N-79534, N-79544 through N-79546, N-79548, N-79550 through N-79551, N-81979, N-81988 and N-84196 are available for review upon request at the Las Vegas Field Office. The remaining five parcels identified in this notice are analyzed in an EA for this sale which tiers to the EIS. Upon publication of this notice, this EA is available for public review and comment at the Las Vegas Field Office. BLM will be accepting public comments on the EA for the five parcels for 45 days after publication in the Federal Register.

Information concerning the sale, appraisals, reservations, procedures and conditions, CERCLA and other environmental documents will be available for review at the Las Vegas Field Office, or by calling (702) 515-5000 and asking to speak to a member of the sales team. Most of this information will also be available on the Internet at https://www.propertydisposal.gsa.gov.

Only written comments submitted by postal service or overnight mail will be considered properly filed. Electronic mail, facsimile or telephone comments will not be considered as properly filed.

Before including your address, phone number, e-mail address, or other personal identifying information in your comment—you should be aware that your entire comment, including your personal identifying information—may be made publicly available at any time. While you can ask us in your comment to withhold your personal identifying information from public review, we cannot guarantee that we will be able to do so.

Any adverse comments regarding the proposed sale will be reviewed by the BLM Nevada State Director, who may sustain, vacate, or modify this realty action. In the absence of any adverse comments, this realty action will become the final determination of the Department of the Interior.

(Authority: 43 CFR part 2711)

Mark R. Chatterton,
Associate Field Manager.

[FR Doc. E8-4208 Filed 3-4-08; 8:45 am]

BILLING CODE 4310-HC-P